DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of July 25, 2011 through July 29, 2011.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(b) (supplier to a firm whose workers are certified eligible to apply for TAA) of the Trade Act have been met.

TA-W-80,093; The Pearlson Company, LLC, Montpelier, Ohio: March 7, 2010.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-80,002; Babcock & Wilcox Power Generation Group, Inc., Barberton, Ohio: February 15, 2010

TA-W-80,046; General Aluminum, Rome, Georgia: March 14, 2010

TA-W-80,226; Camco Cedar, Tacoma, Washington: June 28, 2010

The following certifications have been issued. The requirements of Section 222(a)(2)(B) (shift in production) and Section 246(a)(3)(A)(ii) of the Trade Act have been met.

TA-W-80,107; Muller Martini Manufacturing Corp., Newport News, Virginia: April 13, 2010

TA-W-80,149; Doral Manufacturing, Inc., Doral, Florida: July 1, 2011

TA-W-80,158; Flextronics, San Diego, California: May 3, 2010

TA-W-80,169; Boardman Molded Products, Kessler Marketing Group, Youngstown, Ohio: April 30, 2010

TA-W-80,181; L'Oreal, USA Products, Clark, New Jersey: May 9, 2010

TA-W-80,237; Inteva Products, LLC, Gadsden, Alabama: June 15, 2010

TA-W-80,255; Technicolor Business Group, Camarillo, California: October 3, 2011

TA-W-80,259; Welded Tube of Canada, Inc., Delta, Ohio: June 15, 2010

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-80,093; The Pearlson Company, LLC, Montpelier, Ohio: Negative Determinations For Worker Adjustment Assistance And Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-208; General Motors Components Holdings, LLC, Rochester, New York

TA-W-80,247; DMAX Ltd., LLC, Moraine, Ohio

The investigation revealed that criteria (a)(2)(A)(I.C.) (increased imports) and (a)(2)(B)(II.B.) (shift in production to a foreign country) have not been met.

TA-W-80,015; ACS Commercial Solutions, Inc., Liberty, Kentucky

TA-W-80,028; Affiliated Computer Services, Inc., Hillsboro, Oregon

TA-W-80,052; Lancaster Eagle-Gazette, Lancaster, Ohio

TA-W-80,053; Shiloh Steel Fabricators, Bethel Heights, Arkansas

TA-W-80,057; Orchard Brands, Athens, Georgia

TA-W-80,266; BAE Systems, Survivability Systems, LLC, Fairfield, Ohio

The workers' firm does not produce an article as required for certification under Section 222 of the Trade Act of 1974.

TA-W-80,013; Robb & Stucky Limited, LLP, Fort Myers, Florida

Determinations Terminating Investigations Of Petitions For Worker Adjustment Assistance

After notice of the petitions was published in the Federal Register and on the Department's Web site, as required by Section 221 of the Act (19 USC 2271), the Department initiated investigations of these petitions.

The following determinations terminating investigations were issued because the petitioning groups of workers are covered by active certifications. Consequently, further investigation in these cases would serve no purpose since the petitioning group of workers cannot be covered by more than one certification at a time.

TA-W-80,012; Siemens Medical Solutions USA, Inc., Malvern PA

TA-W-80,171; Panasonic Corporation of North America, Rolling Meadow, Illinois

I hereby certify that the aforementioned determinations were issued during the period of July 25, 2011 through July 29, 2011. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: August 5, 2011.
Del Min Amy Chen,
Certifying Officer, Office, Trade Adjustment Assistance.

[FR Doc. 2011-21055 Filed 8-17-11; 8:45 am]

BILLING CODE 4510-FN-P